DEPARTMENT OF EDUCATION

Applications for New Award; Center To Improve Social and Emotional Learning and School Safety—Cooperative Agreement

AGENCY: Office of Elementary and Secondary Education, Department of Education.

ACTION: Notice.

SUMMARY: The Department of Education (Department) is issuing a notice inviting applications for a new award for fiscal year (FY) 2018 for the Center To Improve Social and Emotional Learning and School Safety (Center)—Cooperative Agreement, Catalog of Federal Domestic Assistance (CFDA) number 84.424B.

DATES:

Applications Available: May 16, 2018.

Deadline for Transmittal of Applications: July 2, 2018.

Deadline for Intergovernmental Review: August 29, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Eve Birge, U.S. Department of Education, 400 Maryland Avenue SW, Room 3C147, Washington, DC 20202-6450. Telephone: (202) 453-6717. Email: eve.birge@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Center is to provide technical assistance to support States and districts in the implementation of social and emotional learning evidence-based (as defined in this notice) programs and practices. The Center will enhance the capacity of (1) State educational agencies (SEAs) to support their local educational agencies (LEAs) and (2) LEAs to support their schools.

Background: The Center will be supported by funds reserved for Title IV, Part A technical assistance and capacity building, pursuant to section 4103(a)(3) of the Elementary and Secondary Education Act of 1965 (ESEA).¹

¹ In December 2015, Congress enacted the Every Student Succeeds Act (ESSA), which reauthorized the ESEA. Therefore, for purposes of this notice, unless otherwise indicated, all references to the “ESEA” are to the “ESEA, as amended by the ESSA.”

Positive social and emotional skills and abilities help students attain and apply knowledge and attitudes that enhance personal development, social relationships, and ethical behavior.² These skills and abilities help inform how students relate to each other and adults.

² Weissberg, R.P., & O'Brien, M.U. (2004). What works in school-based social and emotional learning programs for positive youth development. The ANNALS of the American Academy of Political and Social Science, 591(1), 86-97.

Research shows that how students interact with their peers and teachers, approach their schoolwork, and form beliefs about learning has implications on how they perform in the classroom.³ Evidence-based programs and practices (EBPPs) designed to foster social and emotional learning (SEL) are associated with positive outcomes ranging from better test scores and higher graduation rates to improved social behavior.⁴

³ Durlak, J.A., Weissberg, R.P., Dymnicki, A.B., Taylor, R.D. & Schellinger, K.B. (2011). The impact of enhancing students' social and emotional learning: A meta-analysis of school-based universal interventions. Child Development, January/February 2011, Volume 82, Number 1, 405-432. Retrieved at: www.casel.org/wp-content/uploads/2016/06/meta-analysis-child-development-1.pdf.

⁴ Payton, J., Weissberg, R.P., Durlak, J.A., Dymnicki, A.B., Taylor, R.D., Schellinger, K.B., & Pachan, M. (2008). The positive impact of social and emotional learning for kindergarten to eighth-grade students: Findings from three scientific reviews. Chicago, IL: Collaborative for Academic, Social, and Emotional Learning. Retrieved at: www.casel.org/wp-content/uploads/2016/08/PDF-4-the-positive-impact-of-social-and-emotional-learning-for-kindergarten-to-eighth-grade-students-executive-summary.pdf.

A recent meta-study of 82 school-based, universal SEL interventions involving nearly 100,000 students found that SEL benefits youth development, including improved social and emotional skills, attitudes, indicators of well-being, and increased graduation rates.⁵ Benefits were similar regardless of students' race, socioeconomic background, or school location.

⁵ Taylor, R.D., Oberle, E., Durlak, J.A., & Weissberg, R.P. (2017). Promoting positive youth development through school-based social and emotional learning interventions: A meta-analysis of follow-up effects. Child Development, 88(4):1156-1171. doi: 10.1111/cdev.12864.

Another study analyzed the economic impact of six SEL programs and found that on average, every dollar invested yields $11 in long-term benefits, ranging from improved mental and physical health, reduced juvenile crime, and higher lifetime earnings.⁶

⁶ Belfield, C., Bowden, B., Klapp, A., Levin, H., Shand, R., & Zander, S. (2015). The Economic Value of Social and Emotional Learning. New York, NY: Center for Benefit-Cost Studies in Education. Retrieved at: http://cbcse.org/wordpress/wp-content/uploads/2015/02/SEL-Revised.pdf.

But implementation is not always consistent. When there is not adequate training or understanding by implementers, assessment of efficacy, or accountability, it can jeopardize positive student impacts.⁷ The technical assistance described in this notice will support States and districts by enhancing their capacity to successfully implement EBPPs.

⁷ Evans, R., Murphy, S., & Scourfield, J. Implementation of a school-based social and emotional learning intervention: Understanding diffusion processes within complex systems. Prevention Science. 2015;16(5):754-764. doi:10.1007/s11121-015-0552-0.

For the purpose of this notice inviting applications, SEL includes developing and maintaining positive relationships with peers and adults; using self-control; building social skills, including recognizing and managing emotions in oneself; understanding others' emotions and perspectives; making responsible decisions (i.e., “making good choices”); working effectively in cooperative groups; coping with frustration; reading social cues; resolving interpersonal conflicts; demonstrating compassion and empathy toward others; exercising persistence; building resilience; and developing other SEL skills and abilities.

Under the ESEA, States have an opportunity to broaden their measures of student success to include SEL measures. LEAs that receive funds under the ESEA Title IV-A Student Support and Academic Enrichment (SSAE) Grants program may, under section 4107(a)(3)(J) of the ESEA, use those funds for SEL activities, including interventions that build resilience, self-control, empathy, persistence, and other social and behavioral skills. The following excerpt is taken from the guidance published by the Department on the SSAE grant program (https://www2.ed.gov/policy/elsec/leg/essa/essassaegrantguid10212016.pdf): “Extensive research, as well as educators' own experiences, shows that school-based SEL programs play an important role in fostering healthy relationships and increasing academic and career success.⁸ A growing body of research in this field is demonstrating that various tools and practices can enhance students' social and emotional development.⁹ For example, implementing practices that support students' sense of belonging and value can increase students' academic success.” ¹⁰

⁸ Durlak, J.A., Weissberg, R.P., Dymnicki, A.B., Taylor, R.D., & Schellinger, K.B. (2011). The impact of enhancing students' social and emotional learning: A meta-analysis of school-based universal interventions. Child Development, 82(1), pp. 405-432. Retrieved at: www.casel.org/wp-content/uploads/2016/06/meta-analysis-child-development-1.pdf.

⁹ CASEL Guide to Effective Social and Emotional Learning Programs (www.casel.org/guide/).

¹⁰ Blackwell, L.A., Trzesniewski, K.H., & Dweck, C.S. (2007). Implicit theories of intelligence and achievement across the junior high school transition: A longitudinal study and an intervention. Child Development, 78, 246-263. Retrieved at: mtoliveboe.org/cmsAdmin/uploads/blackwell-theories-of-intelligence-child-dev-2007.pdf. Cohen, G.L., Garcia, J., Purdie-Vaugns, V., Apfel, N., & Brzustoski, P. (2009). Recursive processes in self-affirmation: Intervening to close the minority achievement gap. Science, 324, 400-403.

State-level policies are being developed that reflect these competencies, their expansion, and measurement. Forty-five out of fifty-six ESSA State plans submitted to the Department included SEL programming and skill building. Recently released findings of the 2015-2016 School Survey on Crime and Safety revealed that 66.3 percent of all public schools have SEL programs for students.¹¹ Increasingly, schools across the country are implementing SEL ¹² as there is increasing awareness about how to support students experiencing violence in their neighborhoods and abuse in their homes, drug and alcohol addiction, and pressure to succeed in school. We anticipate that there will be an increased need for technical assistance and training in order to implement programs effectively and with fidelity.

¹¹ Diliberti, M., Jackson, M., and Kemp, J. (2017). Crime, Violence, Discipline, and Safety in U.S. Public Schools: Findings from the School Survey on Crime and Safety: 2015-2016 (NCES 2017-122). U.S. Department of Education, National Center for Education Statistics. Washington, DC. Retrieved at: http://nces.ed.gov/pubsearch.

¹² Wanless, S.B. & Domitrovich, C.E. Prevention Science (2015) 16: 1037. Retrieved at: https://doi.org/10.1007/s11121-015-0612-5.

The Aspen Institute's National Commission on Social, Emotional, and Academic Development released a report in January 2018, How learning happens: Supporting students' social, emotional, and academic development, in which they demonstrate that SEL programming and skill building are inextricably linked to improved academic outcomes and student success; particularly salient is the assertion that professional development and training are essential in order for potential gains to be realized.¹³ This lends further support to the Department's decision to launch a Center to Improve Social and Emotional Learning and School Safety.

¹³ The Aspen Institute National Commission on Social, Emotional, and Academic Development. How Learning Happens: Supporting Students' Social, Emotional, and Academic Development. Retrieved at https://assets.aspeninstitute.org/content/uploads/2018/01/2017_Aspen_InterimReport_Update2.pdf.

There are many approaches to improving SEL skills and abilities. In order to meet the unique needs and preferences of States and districts, the Center must be able to provide technical assistance on a wide array of approaches. The Center must be able to identify core features of SEL and the components necessary to support implementation so that it can support States and districts with a variety of EBPPs that fit their local contexts. This flexibility and the capacity to accommodate a range of needs and requests can be accomplished, in part, by reviewing the research and evidence and developing a common understanding of the tenets or foundations on which this body of work and assistance can be built.

Priorities: This notice contains one absolute priority. We are establishing the absolute priority for the FY 2018 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Supporting the Implementation of Social and Emotional Learning Evidence-Based Programs and Practices

The purpose of the Center is to provide technical assistance to support implementation of social and emotional learning (SEL) evidence-based programs and practices (EBPPs) by enhancing the capacity of (1) SEAs to support their LEAs and (2) LEAs to support their schools.

To meet this priority, applicants must submit a plan demonstrating that the Center will be designed to—

(a) Improve skills of SEA personnel to—

(1) Promote SEL EBPPs through policies, funding mechanisms, and interagency coordination;

(2) Collect and analyze data to inform decision-making regarding implementation of SEL EBPPs; and

(3) Develop the capacity, partnerships, and proficiency needed to provide expert technical assistance regarding implementation of SEL EBPPs.

(b) Improve skills of LEA personnel to—

(1) Implement SEL EBPPs; and

(2) Collect and use data to inform decision-making regarding implementation of SEL EBPPs.

(c) Establish a cadre of subject matter experts to provide training to SEAs and LEAs on how to implement a wide array of SEL EBPPs.

(d) Develop reliable and valid tools and processes for measuring outcomes and evaluating the fidelity of the implementation of SEL EBPPs.

(e) Coordinate with other federally funded technical assistance centers, such as the Department's Office of Safe and Healthy Students' (OSHS) National Technical Assistance Center for the Education of Neglected or Delinquent Children and Youth, the Department's Office of Special Education Programs' (OSEP) and OSHS' Positive Behavioral Interventions and Supports OSEP Technical Assistance Center, and OSEP's Technical Assistance and Dissemination to Improve Services and Results for Children with Disabilities—Technical Assistance Center on Positive Social, Emotional, and Behavioral Outcomes for Young Children with, and at Risk for, Developmental Delays or Disabilities.

Fourth and fifth years of the project: In deciding whether to continue funding the project for the fourth and fifth years, the Secretary will consider the requirements of 34 CFR 75.253(a), as well as: (i) The recommendation of a review team consisting of experts selected by the Secretary and convening for a one-day intensive review during the last half of the second year of the project period; (ii) the timeliness with which, and how well, the requirements of the negotiated cooperative agreement have been or are being met by the project; and (iii) the quality, relevance, and usefulness of the project's products and services and the extent to which the project's products and services are aligned with the project's objectives and likely to result in the project achieving its intended outcomes.

Definitions: The following definitions apply to this competition. The definition of “evidence-based” is from section 8101 of the ESEA. The definitions of “baseline,” “performance measure,” and “performance target” are from 34 CFR 77.1.

Evidence-based, when used with respect to a State, local educational agency, or school activity, means an activity, strategy, or intervention that—

(i) Demonstrates a statistically significant effect on improving student outcomes or other relevant outcomes based on—

(I) Strong evidence from at least one well-designed and well-implemented experimental study;

(II) Moderate evidence from at least one well-designed and well-implemented quasi-experimental study; or

(III) Promising evidence from at least one well-designed and well-implemented correlational study with statistical controls for selection bias; or

(ii)(I) Demonstrates a rationale based on high-quality research findings or positive evaluation that such activity, strategy, or intervention is likely to improve student outcomes or other relevant outcomes; and

(II) Includes ongoing efforts to examine the effects of such activity, strategy, or intervention.

Baseline means the starting point from which performance is measured and targets are set.

Performance measure means any quantitative indicator, statistic, or metric used to gauge program or project performance.

Performance target means a level of performance that an applicant would seek to meet during the course of a project or as a result of a project.

Waiver of Proposed Rulemaking: Under the Administrative Procedure Act (5 U.S.C. 553), the Department generally offers interested parties the opportunity to comment on proposed priorities and application requirements. Section 437(d)(1) of GEPA, however, allows the Secretary to exempt from rulemaking requirements, regulations governing the first grant competition under a new or substantially revised program authority. This is the first grant competition for this program under Title IV, Part A (section 4103 of the ESEA) and therefore qualifies for this exemption. In order to ensure timely grant awards, the Secretary has decided to forgo public comment on the absolute priority and application requirements under section 437(d)(1) of GEPA. This priority and the application requirements will apply to the FY 2018 grant competition and any subsequent year in which we make awards from the list of unfunded applications from this competition.

Program Authority: This grant program is authorized by Title IV, Part A, Subpart 1 (4103(3), 20 U.S.C. 7113(3)).

Applicable Regulations: (a) The Education Department General Administrative Regulations (EDGAR) in 34 CFR parts, 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations in 34 CFR part 299.

II. Award Information

Type of Award: Cooperative agreement.

Estimated Available Funds: $1,000,000.

Estimated Award: $1,000,000 per year for up to 5 years.

Estimated Number of Awards: 1.

Note: The Department is not bound by any estimates in this notice.

Project Period: Up to 60 months.

III. Eligibility Information

1. Eligible Applicants: Public agencies and private nonprofit or for-profit organizations, including institutions of higher education, with the demonstrated ability and capacity to carry out the activities described in this notice.

2. Cost Sharing or Matching: This program does not require cost sharing or matching.

3. Subgrantees: Under 34 CFR 75.708(b) and (c) a grantee under this competition may award subgrants—to directly carry out project activities described in its application—to the following types of entities: Local educational agencies, State educational agencies, institutions of higher education, and nonprofit organizations. The grantee may award subgrants to entities it has identified in an approved application or that it selects through a competition under procedures established by the grantee.

4. Participation of Faith-based Organizations: Faith-based organizations are eligible to apply for grants under this competition provided they meet all statutory and regulatory requirements.

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

V. Application Review Information

1. Selection Criteria and Application Requirements: The selection criteria for this competition are from 34 CFR 75.210. We are establishing the application requirements accompanying the selection criteria for the FY 2018 grant competition and any subsequent year in which we make awards from the list of unfunded applications from this competition, in accordance with section 437(d)(1) of GEPA, 20 U.S.C. 1232(d)(1).

The maximum score for addressing all of the selection criteria is 100 points. The points assigned to each criterion are indicated in parentheses following the criterion. Non-Federal peer reviewers will review each application and score each program narrative against the following selection criteria:

(a) Significance of the Project (up to 30 points)

The Secretary considers the significance of the proposed project. In determining the significance of the proposed project, the Secretary considers the following factors:

(i) The extent to which the proposed project is likely to build local capacity to provide, improve, or expand services that address the needs of the target population. (10 points)

(ii) The importance or magnitude of the results or outcomes likely to be attained by the proposed project. (10 points)

(iii) The likelihood that the proposed project will result in system change or improvement. (10 points)

In addressing this criterion, an applicant must describe, in the narrative section of the application under “Significance of the Project,” how the proposed project will—

(1) Address the current and emerging needs of SEAs and LEAs to implement, scale-up, and sustain SEL EBPPs as evidenced by the ability and capacity to (i) present applicable national, State, regional, or local data demonstrating the needs of SEAs and LEAs to implement, scale-up, and sustain SEL EBPPs; and (ii) demonstrate knowledge of current policy initiatives and issues relating to implementing, scaling, and sustaining SEL EBPPs within the context of school improvement efforts; and

(2) Result in (i) improved quality of SEL programming implementation; and (ii) increased scale-up of program implementation in LEAs and SEAs over the course of the project period.

(b) Quality of Project Services (up to 35 points)

The Secretary considers the quality of the services to be provided by the proposed project.

(i) In determining the quality of the services to be provided by the proposed project, the Secretary considers the quality and sufficiency of strategies for ensuring equal access and treatment for eligible project participants who are members of groups that have traditionally been underrepresented based on race, color, national origin, gender, age, or disability. (5 points)

In addition, the Secretary considers the following factors:

(ii) The extent to which the goals, objectives, and outcomes to be achieved by the proposed project are clearly specified and measurable. (15 points)

(iii) The extent to which the technical assistance services to be provided by the proposed project involve the use of efficient strategies, including the use of technology, as appropriate, and the leveraging of non-project resources. (15 points)

In addressing this criterion, an applicant must describe, in the narrative section of the application under “Quality of Project Services,” how the proposed project will—

(1) Ensure equal access and treatment for members of groups that have traditionally been underrepresented based on race, color, national origin, linguistic diversity, gender, age, or disability; in addition to vulnerable populations such as students that have had contact with the child welfare or juvenile justice systems or who have experienced homelessness. For example, describe the process that will be used to (i) identify the needs of the intended recipients for technical assistance and information; and (ii) ensure that services and products meet the needs of the intended recipients;

(2) Achieve its goals, objectives, and intended outcomes. Evidence to address this includes (i) measurable intended project outcomes; and (ii) the theory of action on how the proposed project will achieve the intended project outcomes;

(3) Use a conceptual framework to guide the development of project plans and activities, describing any underlying concepts, assumptions, expectations, beliefs, or theories, as well as the presumed relationship or linkages among these variables, and any empirical support for this framework;

(4) Develop products and provide services that are of sufficient quality, intensity, and duration to achieve the intended outcomes of the proposed project. For example, describe (i) proposed activities to identify, develop, or expand the knowledge base of researchers, trainers, technical assistance providers, and practitioners; (ii) proposed approach to general technical assistance, including the intended recipients of the products and services under this approach; (iii) proposed approach to targeted technical assistance, including the intended recipients of the products and services, and its proposed approach to measure the readiness of potential recipients to work with the project, including their infrastructure, available resources, and ability to build capacity; and (iv) proposed approach to intensive, sustained technical assistance, including the intended recipients of the products and services under this approach;

(5) Develop products and implement services to maximize the project's efficiency. For example, describe (i) how the proposed project will use technology to achieve the intended project outcomes; (ii) how the proposed project will collaborate with other related centers supported by the Department; (iii) with whom the proposed project will collaborate and the intended outcomes of this collaboration; and (iv) how the proposed project will use non-project resources effectively to achieve the intended project outcomes; and

(6) Maintain a website that meets government or industry-recognized standards for accessibility.

(c) Quality of the Evaluation Plan (up to 10 points)

The Secretary considers the quality of the evaluation to be conducted of the proposed project. In determining the quality of the evaluation, the Secretary considers the following factors:

(i) The extent to which the methods of evaluation are thorough, feasible, and appropriate to the goals, objectives, and outcomes of the proposed project. (5 points)

(ii) The extent to which the methods of evaluation will provide performance feedback and permit periodic assessment of progress toward achieving intended outcomes. (5 points)

In addressing this criterion, an applicant must describe, in the narrative section of the application under “Quality of the Evaluation Plan,” how—

(1) The proposed project will collect and analyze data related to specific and measurable goals, objectives, and intended outcomes of the project. Evidence to address this includes (i) proposed evaluation methodologies, including instruments, data collection methods, and possible analyses; (ii) proposed standards or targets for determining effectiveness; and (iii) proposed methods for collecting data on implementation supports and fidelity of implementation;

(2) The proposed project will use the evaluation results to examine the effectiveness of the project's implementation strategies and the progress toward achieving intended outcomes;

(3) The methods of evaluation will produce quantitative and qualitative data that demonstrate whether the project achieved the intended outcomes; and

(4) The proposed project will identify key components (i.e., the active “ingredients” that are hypothesized to be critical to achieving the relevant outcomes) through the depiction of a logic model that lays out the goals, activities, outputs, and outcomes of the proposed project.

(d) Quality of the Management Plan (up to 25 points)

The Secretary considers the quality of the management plan for the proposed project. In determining the quality of the management plan for the proposed project, the Secretary considers the following factors:

(i) The adequacy of the management plan to achieve the objectives of the proposed project on time and within budget, including clearly defined responsibilities, timelines, and milestones for accomplishing project tasks. (10 points)

(ii) The adequacy of mechanisms for ensuring high-quality products and services from the proposed project. (10 points)

(iii) How the applicant will ensure that a diversity of perspectives are brought to bear in the operation of the proposed project, including those of parents, teachers, the business community, a variety of disciplinary and professional fields, recipients or beneficiaries of services, or others, as appropriate. (5 points)

In addressing this criterion, an applicant must describe, in the narrative section of the application under “Quality of the Management Plan,” how—

(1) The proposed management plan will ensure that the project's intended outcomes will be achieved on time and within budget. For example, clearly define and describe (i) responsibilities for key project personnel, consultants, and subcontractors, as appropriate; and (ii) timelines and milestones for accomplishing the project tasks, recognizing the proposed project period spans up to 60 months;

(2) Key project personnel and any consultants and subcontractors will be allocated to the project and demonstrate the appropriateness and adequacy of these time allocations to achieve the project's intended outcomes;

(3) The proposed management plan will ensure that the products and services provided are of high quality, including the method and regularity by which quantitative data will be collected on the scope and frequency of product use and the role(s) of users;

(4) The proposed project will benefit from a diversity of perspectives, including families, educators, technical assistance providers, researchers, and policy makers, among others, in its development and operation; and

(5) The proposed costs are reasonable in relation to the anticipated results and benefits.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20(c).

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures:

(a) Program performance measures. The Department has established the following performance measures for assessing the effectiveness of the Center to Improve Social and Emotional Learning and School Safety—Cooperative Agreement:

• The number of training and technical assistance events provided by the Center to SEAs and LEAs.

• The percentage of training and technical assistance services and products provided by the Center to SEAs and LEAs that are deemed to be useful through an independent expert review.

• For a representative sample of LEAs that receive training or technical assistance, the percentage of LEAs in which SEL EBPPs are implemented in schools with fidelity as determined through an independent expert review.

(b) Performance measure targets. The applicant must propose in the application annual targets for the measures listed in paragraph (a). As directed under 34 CFR 75.110(b), applicants must include why each proposed performance target is ambitious yet achievable compared to the baseline for the performance measure.

(c) As required under 34 CFR 75.110(c), the applicant must also describe:

(1) The data collection and reporting methods the applicant would use and why those methods are likely to yield reliable, valid, and meaningful performance data; and

(2) The applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project. The reviewers of each application will score related selection criteria on the basis of how well an applicant has considered the requirements in paragraphs (a), (b), and (c) in conceptualizing the approach and evaluation of the project.

The grantee must submit an annual performance report and final performance report with information that is responsive to the performance measures. The Department will consider these data in making annual continuation awards.

Consistent with 34 CFR 75.591, the grantee funded under this program shall comply with the requirements of any evaluation of the program conducted by the Department or an evaluator selected by the Department.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: May 11, 2018.
Jason Botel,
Principal Deputy Assistant Secretary, Delegated the Authority to Perform the Functions and Duties of the Assistant Secretary of Elementary and Secondary Education.

[FR Doc. 2018-10474 Filed 5-15-18; 8:45 am]

BILLING CODE 4000-01-P